DEPARTMENT OF LABOR

Employment and Training Administration

[TA-W-70,654]

DNS Electronics, Chandler, AZ; Notice of Termination of Investigation

Pursuant to Section 223 of the Trade Act of 1974, as amended, an investigation was initiated in response to a petition filed on May 27, 2009, by three workers on behalf of workers of DNS Electronics, Chandler, Arizona.

The petitioning group of workers is covered by an active certification (TA-W-72,553), which expires on December 17, 2011. Consequently, further investigation in this case would serve no purpose, and the investigation has been terminated.

Signed at Washington, DC, this 12th day of January 2010.
Elliott S. Kushner
Certifying Officer, Division of Trade Adjustment Assistance.

[FR Doc. 2010-5345 Filed 3-11-10; 8:45 am]

BILLING CODE 4510-FN-P